DEPARTMENT OF HEALTH AND HUMAN SERVICES

National Institutes of Health

Center for Scientific Review; Amended Notice of Meeting

Notice is hereby given of a change in the meeting of the Center for Scientific Review Special Emphasis Panel, October 16, 2006, 8 a.m. to October 17, 2006, 3 p.m. Admiral Fell Inn, 888 South Broadway, Baltimore, MD 21201 which was published in the Federal Register on September 15, 2006, 71 FR 54511-54512.

The meeting will be held October 15, 2006, 7 p.m. to October 16, 2006, 4 p.m. The meeting location remains the same. The meeting is closed to the public.

Dated: October 11, 2006.
Linda Payne,
Acting Director, Office of Federal Advisory Committee Policy.

[FR Doc. 06-8779 Filed 10-18-06; 8:45 am]

BILLING CODE 4140-01-M